DEPARTMENT OF ENERGY

Federal Energy Regulatory Commission

[Project No. 14308-000]

Carbon Zero, LLC; Notice of Application Tendered for Filing With the Commission and Soliciting Additional Study Requests

Take notice that the following hydroelectric application has been filed with the Commission and is available for public inspection.

a. Type of Application: Exemption from Licensing.

b. Project No.: 14308-000.

c. Date Filed: October 24, 2011.

d. Applicant: Carbon Zero, LLC.

e. Name of Project: Vermont Tissue Mill Hydroelectric Project.

f. Location: On the Walloomsac River, in the Town of Bennington, Bennington County, Vermont. The project would not occupy lands of the United States.

g. Filed Pursuant to: Public Utility Regulatory Policies Act of 1978, 16 U.S.C. 2705, 2708.

h. Applicant Contact: William F. Scully, Carbon Zero, LLC, P.O. Box 338, North Bennington, VT 05257; (802) 442-0311; wfscully@gmail.com.

i. FERC Contact: Amy K. Chang, (202) 502-8250 or Amy.Chang@ferc.gov.

j. Cooperating Agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to Section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 23, 2011.

All documents may be filed electronically via the Internet. See 18 CFR 385.2001(a)(1)(iii) and the instructions on the Commission's Web site (http://www.ferc.gov/docs-filing/ferconline.asp). Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. Vermont Mill Tissue Hydroelectic Project would consist of two existing dams separated by a 400-foot-long island and include: (1) An 85-foot-long, 15-foot-high principal dam with an uncontrolled spillway topped by 4-inch-high replaceable flashboards; (2) an 80-foot-long, 15.3-foot-high dam with an emergency spillway; (3) an existing 6-foot-high by 6-foot-wide clean-out gate located under the spillway of the principal dam; (4) an existing 6.4-acre impoundment with a normal water surface elevation of 550 feet above mean sea level; (5) an existing intake structure equipped with one 12-foot-high by 9-foot-long and three 12-foot-high by 12-foot-long headgates and trashracks connected to two water conveyance channels, one 50 feet long and one 75 feet long; (6) an existing powerhouse with three new turbine generating units with a total installed capacity of 349 kilowatts; and (7) a new 100-foot-long transmission line. In addition to installing the new turbine generating units and new transmission line listed above, the applicant proposes to renovate and repair the trashracks and tailrace retaining wall, and excavate a new tailrace downstream of the principal dam. The project would be operated in a run-of-river mode and would generate an annual average of approximately 1,257 megawatt-hours.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. With this notice, we are initiating consultation with the Vermont State Historic Preservation Officer (SHPO), as required by 106, National Historic Preservation Act, and the regulations of the Advisory Council on Historic Preservation, 36, CFR, at 800.4.

q. Procedural schedule: The application will be processed according to the following Hydro Licensing Schedule. Revisions to the schedule will be made as appropriate (e.g., if scoping is waived, the schedule would be shortened).

Issue Deficiency Letter | January 2012.
Issue Notice of Acceptance | March 2012.
Issue Scoping Document | March 2012.
Issue Notice ready for environmental analysis | May 2012.
Issue Notice of the availability of the EA | October 2012.

Dated: November 7, 2011.
Kimberly D. Bose,
Secretary.

[FR Doc. 2011-29352 Filed 11-14-11; 8:45 am]

BILLING CODE 6717-01-P